ENVIRONMENTAL PROTECTION AGENCY

[FRL-7105-9]

Board of Scientific Counselors, Executive Committee Meeting

AGENCY: Environmental Protection Agency (EPA).

ACTION: Notice of teleconference.

SUMMARY: Pursuant to the Federal Advisory Committee Act, Public Law 92-463, as amended (5 U.S.C., App. 2) notification is hereby given that the Environmental Protection Agency, Office of Research and Development (ORD), The Board of Scientific Counselors (BOSC), will hold an Executive Committee Teleconference.

DATES: The teleconference will be held on December 17, 2001.

ADDRESSES: On Monday, December 17, 2001, the teleconference will begin at 1 p.m. and will adjourn at 3 p.m. All times noted are Eastern Time.

SUPPLEMENTARY INFORMATION: The entire agenda of the BOSC Executive Committee teleconference is to discuss and approve draft BOSC Subcommittees' Reviews of ORD's National Laboratory and Centers. The teleconference is open to the public. Any member of the public wishing to speak on the teleconference should contact Shirley Hamilton, Designated Federal Officer, Office of Research and Development (8701R), 1200 Pennsylvania Avenue, NW., Washington, DC 20460; or telephone at (202) 564-6853. In general each individual making an oral presentation will be limited to a total of three minutes.

FOR FURTHER INFORMATION CONTACT: Shirley R. Hamilton, Designated Federal Officer, U.S. Environmental Protection Agency, Office of Research and Development, NCER (MC 8701R), 1200 Pennsylvania Avenue, NW. Washington, DC 20460, (202) 564-6853.

Dated: November 13, 2001.
Peter W. Preuss,
Director, National Center for Environmental Research.

[FR Doc. 01-29104 Filed 11-20-01; 8:45 am]

BILLING CODE 6560-50-P